FEDERAL COMMUNICATIONS COMMISSION

Notice of Public Information Collection(s) Being Reviewed by the Federal Communications Commission, Comments Requested

March 30, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 31, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-0980.

Title: Implementation of the Satellite Home Viewer Extension and Reauthorization Act of 2004 (Procedural Rules); Implementation of the Satellite Home Viewer Improvement Act of 1999 (Broadcast Signal Carriage Issues, Retransmission Consent Issues) CS Docket Nos. 00-96 and 99-363.

Form Number: Not applicable.

Type of Review: Revision of a currently approved collection.

Respondents: Business or other for-profit entities.

Number of Respondents: 9,600.

Estimated Time per Response: 1-5 hours.

Frequency of Response: On occasion reporting requirement; Third Party Disclosure Requirement.

Total Annual Burden: 14,800 hours.

Total Annual Cost: $260,000.

Privacy Impact Assessment: No impact(s).

Needs and Uses: On March 28, 2005, the Commission adopted rules in compliance with requirements in the Satellite Home Viewer Extension and Reauthorization Act of 2004 (“SHVERA”). In December 2004, Congress passed and the President signed the SHVERA, which amends the 1988 copyright laws and the Communications Act of 1934 to further aid competition in the multichannel video programming distribution market and provide more video programming options for satellite subscribers. The SHVERA is the third statute that addresses satellite carriage of television broadcast stations. Section 202 of the SHVERA requires the Commission to implement the new section 340(h), which prescribes rules for carriage elections on a county basis, unified retransmission consent negotiations, and notifications by satellite carriers to local broadcasters concerning carriage of significantly viewed signals. We also adopt two additional procedural rule changes mandated by sections 205 and 209 of the SHVERA. Section 205 amends section 338 of the Communications Act to add subsection 338(h), which requires the Commission to revise its rules for satellite carriers' notices to station licensees when the carrier is going to initiate new local service. Section 209 of the SHVERA amends section 339(c)(4) of the Communications Act to require the Commission to exempt satellite carriers from the signal testing requirements mandated by this section when local-into-local service is available. We are amending the rules without providing prior public notice and comment because these amendments merely implement provisions of the SHVERA that direct the Commission to revise its rules as specified in the legislation.

In 1988, Congress passed the Satellite Home Viewer Act (“1988 SHVA”), which established a statutory copyright license for satellite carriers to offer broadcast programming to subscribers who could not receive the signal of a broadcast station over the air (“unserved households”). In the 1999 Satellite Home Viewer Improvement Act (“SHVIA”), Congress expanded on the 1988 SHVA by amending both the 1988 copyright laws and the Communications Act to permit satellite carriers to retransmit local broadcast television signals directly to their subscribers without requiring that they live in “unserved households.”

Federal Communications Commission.
Marlene H. Dortch,
Secretary.

[FR Doc. 05-6597 Filed 3-31-05; 8:45 am]

BILLING CODE 6712-10-P